DEPARTMENT OF HOMELAND SECURITY

U.S. Customs and Border Protection

Accreditation and Approval of Atlantic Product Services, Inc., as a Commercial Gauger and Laboratory

AGENCY: U.S. Customs and Border Protection, Department of Homeland Security.

ACTION: Notice of accreditation and approval of Atlantic Product Services, Inc., as a commercial gauger and laboratory.

SUMMARY: Notice is hereby given, pursuant to CBP regulations, that Atlantic Product Services, Inc., has been approved to gauge and accredited to test petroleum and petroleum products for customs purposes for the next three years as of October 29, 2014.

DATES: Effective Dates: The accreditation and approval of Atlantic Product Services, Inc., as commercial gauger and laboratory became effective on October 29, 2014. The next triennial inspection date will be scheduled for October 2017.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 and 19 CFR 151.13, that Atlantic Product Services, Inc., 2 Terminal Rd. KMI Bldg. OB2, Carteret, NJ 07008, has been approved to gauge and accredited to test petroleum and petroleum products for customs purposes, in accordance with the provisions of 19 CFR 151.12 and 19 CFR 151.13. Atlantic Product Services, Inc., is approved for the following gauging procedures for petroleum and certain petroleum products set forth by the American Petroleum Institute (API):

API Chapters | Title
3 | Tank gauging.
7 | Temperature Determination.
8 | Sampling.
12 | Calculations.
17 | Maritime Measurements.

Atlantic Product Services, Inc., is accredited for the following laboratory analysis procedures and methods for petroleum and certain petroleum products set forth by the U.S. Customs and Border Protection Laboratory Methods (CBPL) and American Society for Testing and Materials (ASTM):

CBPL No. | ASTM | Title
27-05 | ASTM D-4928 | Standard Test Method for Water in Crude Oils by Coulometric Karl Fischer Titration.
27-08 | ASTM D-86 | Standard Test Method for Distillation of Petroleum Products.
27-11 | ASTM D-445 | Standard test method for kinematic viscosity of transparent and opaque liquids (and calculations of dynamic viscosity).
27-14 | ASTM D-2622 | Standard Test Method for Sulfur in Petroleum Products by Wavelength Dispersive X-ray Fluorescence Spectrometry.
27-48 | ASTM D-4052 | Standard test method for density and relative density of liquids by digital density meter.
27-50 | ASTM D-93 | Standard Test Methods for Flash Point by Pensky-Martens Closed Cup Tester.
27-53 | ASTM D-2709 | Standard Test Method for Water and Sediment in Middle Distillate Fuels by Centrifuge.
27-58 | ASTM D-5191 | Standard Test Method For Vapor Pressure of Petroleum Products (Mini Method).
N/A | ASTM D-3606 | Determination of Benzene and Toluene in Finished Motor and Aviation Gasoline by Gas Chromatography.
N/A | ASTM D 5769 | Determination of Benzene, Toluene, and Total Aromatics in Finished Gasolines by Gas Chromatography/Mass Spectrometry.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories. http://www.cbp.gov/sites/default/files/documents/gaulist_3.pdf.

Dated: April 24, 2015.
Ira S. Reese,
Executive Director, Laboratories and Scientific Services Directorate.

[FR Doc. 2015-10257 Filed 4-30-15; 8:45 am]

BILLING CODE 9111-14-P